DEPARTMENT OF JUSTICE

Notice of Lodging of Consent Decree Pursuant to the Clean Water Act

Notice is hereby given that a consent decree in United States v. Chevron U.S.A. Production Company Civil Action No. 01-D-1921 (D. CO) was lodged with the District Court for the District of Colorado on September 28, 2001.

Under this Consent Decree Chevron shall pay a civil penalty and perform injunctive relief to resolve claims alleging violations of the CWA, 33 U.S.C. 1251 et seq. The Complaint asserts claims pursuant to Sections 301(a) and 311(b)(3) of the CWA, 33 U.S.C. 1311(a) & 1321(b)(3), for spills of produced water and oil from pipelines at Chevron's Rangely Weber Sand Unit and oil exploration and production unit, in Rangely, Colorado. Under the terms of the settlement, Chevron shall pay a $750,000 civil penalty and perform work over the next few years at the Rangely Unit in an effort to achieve compliance with the Act.

The Department of Justice will receive, for a period of thirty (30) days from the date of this publication, comments relating to the proposed consent decree. Comments should be addressed to the Assistant Attorney General for the Environment and Natural Resources Division, Department of Justice, Washington, DC 20530, and should refer to United States v. Chevron U.S.A. Production Company Civil Action No. 01-D-1921 (D. CO), DOJ Ref. #90-5-1-1-4513.

The proposed consent decree may be examined at the Office of United States Attorney, District of Colorado, 1961 Stout St., Suite 1200, Denver, CO 80294, (303) 454-0100. A copy of the proposed consent decree may be obtained by mail from the Department of Justice Consent Decree Library, P.O. Box 7611, Washington, DC 20044. In requesting a copy, please refer to the referenced case and enclose a check in the amount of $9.00 (25 cents per page reproduction costs, including attachments), payable to the Consent Decree Library.

Bob Brook,
Assistant Section Chief, Environmental Enforcement Section, Environment and Natural Resources Division.

[FR Doc. 01-25876 Filed 10-12-01; 8:45 am]

BILLING CODE 4410-15-M